DEPARTMENT OF LABOR

Office of Disability Employment Policy; Customized Employment Grants

AGENCY: Office of Disability Employment Policy (ODEP), Department of Labor.

ACTION: Notice of availability of funds and Solicitation for Grant Applications (SGA 02-13) for Customized Employment Grants.

SUMMARY: The U.S. Department of Labor (DOL or the Department), Office of Disability Employment Policy (ODEP) announces the availability of $3.5 million to award up to seven competitive grants for strategic planning and implementation activities designed to improve the employment and career advancement of people with disabilities through enhanced availability and provision of customized employment services through the new One-Stop delivery system established under the Workforce Investment Act of 1998 (WIA) (Pub. L. 105-220, 29 U.S.C. 2801 et seq.).

This Customized Employment Grant program will provide funds to selected Local Workforce Investment Boards (Local Boards), or, if appropriate, the WIA grant recipient or fiscal agent for the local area on behalf of the Local Board. The Local Board will be the lead entity in a consortium/partnership of public and private entities, to build the capacity in local One-Stop Centers to provide customized employment services to those persons with disabilities who may not now be regularly targeted for services by the One-Stop Center system. Grants funded under this program will also provide a vehicle for Local Boards to systemically review their policy and practices in terms of service to persons with disabilities, and to incorporate new and innovative practices, as appropriate.

Grants are for a one-year period and may be renewed for a period of up to four additional years at varying funding levels (see Section V) depending upon the availability of funds and the efficacy of the project activities. All forms necessary to prepare an application are included in this SGA. If another copy of a Standard Form is needed, go online to http://www.whitehouse.gov/OMB/grants/forms.html.

DATES: One (1) blue ink-signed original, complete grant application plus two (2) copies of the Technical Proposal and two (2) copies of the Cost Proposal must be submitted to the U.S. Department of Labor, Procurement Services Center, Attention Grant Officer, Reference SGA 02-13, Room N-5416, 200 Constitution Avenue, NW., Washington, DC 20210, not later than 4:45 p.m. Eastern Daylight Savings Time (EDST) August 12, 2002. Hand-delivered applications must be received by the Procurement Services Center by that time.

ADDRESSES: Applications must be directed to the U.S. Department of Labor, Procurement Services Center, Attention: Grant Officer, Reference SGA 02-13, Room N-5416, 200 Constitution Avenue, NW., Washington, DC 20210.

FOR FURTHER INFORMATION CONTACT: Applications will not be mailed. The Federal Register may be obtained from your nearest government office or library. All applicants are advised that U.S. mail delivery in the Washington, DC area has been erratic due to the recent concerns involving anthrax contamination. All applicants must take this into consideration when preparing to meet the application deadline. It is recommended that you confirm receipt of your application by contacting Cassandra Willis, U.S. Department of Labor, Procurement Services Center, telephone (202) 693-4570, prior to the closing deadline. [This is not a toll-free number].

Acceptable Methods of Submission

The application package must be received at the designated place by the date and time specified or it will not be considered. Any application received at the Office of Procurement Services Center after 4:45 p.m., EDST, August 12, 2002, will not be considered unless it is received before the award is made and:

1. It was sent by registered or certified mail not later than the fifth calendar day before August 12, 2002; or

2. It was sent by U.S. Postal Service Express Mail Next Day Service-Post Office to Addressee, not later than 5 p.m. at the place of mailing two (2) working days, excluding weekends and Federal holidays, prior to August 12, 2002; or

3. It is determined by the Government that the late receipt was due solely to mishandling by the Government after receipt at the U.S. Department of Labor at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore, applicants should request the postal clerk place a legible hand cancellation “bulls-eye” postmark on both the receipt and the envelope or wrapper.

The only acceptable evidence to establish the time of receipt at the U. S. Department of Labor is the date/time stamp of the Procurement Services Center on the application wrapper or other documentary evidence or receipt maintained by that office.

Applications sent by other delivery services, such as Federal Express, UPS, etc., will also be accepted; however, the applicant bears the responsibility of timely submission.

All applicants are advised that U.S. mail delivery in the Washington, DC area has been erratic due to concerns involving anthrax contamination. All applicants must take this into consideration when preparing to meet the application deadline. Therefore, it is recommended that you confirm receipt of your application by contacting Cassandra Willis, U.S. Department of Labor, Procurement Services Center, telephone (202) 693-4570, (this is not a toll-free number), prior to the closing deadline. Persons who are deaf or hard of hearing may contact the Department via the Federal Relay Service, (800) 877-8339.

SUPPLEMENTARY INFORMATION

I. Authority

Consolidated Appropriations Act, 2001, Pub. L. 106-554, 114 Stat. 2763, A-10, 29 U.S.C. 557(b); DOL, HHS, Education & Related Agencies Appropriations Act, 2002, Pub. L. 107-116, 115 Stat. 2177.

II. Background

The President's New Freedom Initiative is designed to increase the number of people with disabilities who enter, reenter, and remain in the workforce. It is dedicated to increasing investment in and access to assistive technologies, a quality education, and increasing the integration of Americans with disabilities into the workforce and community life. The Workforce Investment Act of 1998 (WIA) provides the infrastructure for streamlining services and securing employment through the One-Stop delivery system. WIA requires multiple programs and agencies (including state Vocational Rehabilitation agencies) to: (a) Form partnerships in this effort; (b) share expertise and coordinate resources; and (c) provide services to assist people in gaining and retaining employment. The One-Stop Career Centers which comprise this system are in a position to expand employment opportunities for people with disabilities, thus ensuring that the intent of the New Freedom Initiative is accomplished. Under WIA, collaboration with multiple required partners¹ is intended to create a coordinated and streamlined system for the customer seeking employment. It is essential to involve additional states or local programs as partners with the One-Stop Center to enable many people with disabilities to have an increased opportunity for and choice in employment. These additional programs include, but are not limited to, state programs for Mental Retardation and Developmental Disabilities, Medicaid, Mental Health and Transportation; State Councils for Developmental Disabilities; state assistive technology programs, Small Business Development Centers and secondary education programs. While not required partners under WIA, these programs have expertise and/or resources that can contribute to expanding the employment and business opportunities for people with disabilities. In addition, community colleges, University Centers for Excellence in Developmental Disabilities, business incubators, lending institutions, foundations, faith-based organizations, and other state or local programs may also be critical partners. These agencies and programs may not be informed about the potential for coordinating resources and expertise with Local Boards and One-Stop Centers in order to increase employment, choice and wages for people with disabilities.

¹ Some of the required partners are adult education and literacy activities under Title II of WIA; post-secondary vocational education activities under the Carl Perkins Act (20 U.S.C. 2301 et seq.); vocational rehabilitation programs authorized under title V of the Workforce Investment Act; welfare-to-work programs; veterans employment and training activities, community services block grant employment and training activities; U.S. Department of Housing and Urban Development employment and training activities; and activities authorized under Title V of the Older Americans Act (WIA sec. 121(b), 29 U.S.C.A. 2841(b), 20 CFR 662.200).

In addition, One-Stop Centers may elect to become employment networks under the Ticket-to-Work Program (42 U.S.C. 1320b-19), thus making it more likely that they will require expertise in customized employment strategies in order to successfully facilitate employment for people with disabilities who are recipients of Supplemental Security Income (SSI) or Social Security Disability Insurance (SSDI). The Ticket-to-Work is providing increased employment opportunities for people with disabilities who receive SSI and/or SSDI benefits by addressing some of the major barriers encountered by these individuals as they attempt to gain or regain employment. Approximately eight million people with disabilities receive SSI and/or SSDI benefits. According to the U.S. General Accounting Office, less than one percent of these individuals leave the rolls each year as a result of paid employment. Of those who do leave, about one-third return within three years. The Ticket-to-Work program provides a variety of work incentives, including greater choices of needed employment services, the continuation of Medicare eligibility for SSDI recipients and, at state option, health coverage under the Medicaid program to certain workers with disabilities, either by permitting them to purchase Medicaid coverage or by extending Medicaid eligibility to them without charge. As a result, there is unprecedented opportunity for these individuals to enter, or return to the workforce. Increasing numbers of individuals with disabilities will be approaching their local One-Stop Centers for assistance.

Many strategies exist for securing integrated, competitive employment for people with disabilities, including people who previously might have been considered “nonfeasible” for employment, and people who have been segregated in institutions, nursing homes, and day activity programs. Attitudes are changing about the abilities of people with significant disabilities to work in a variety of jobs, industries, and levels. Many exemplary practices and promising strategies have emerged through decades of research and demonstration projects, and through other public and private activities promoting increased choice and self-determination for people with disabilities. These include a variety of approaches such as supported employment; supported entrepreneurship; individualized job development; job carving and restructuring; use of personal agents (including individuals with disabilities and family members); development of micro-boards, micro-enterprises, cooperatives and small businesses; and use of personal budgets and other forms of individualized funding that provide choice and control to the person and promote self-determination. These and other innovations hold the promise of dramatically increasing both employment and wages for people with disabilities, in part by increasing their choices for integrated, competitive employment, business ownership, micro-enterprise development, entrepreneurship, and other employment options that were previously seldom available. An important focus of these innovations has been on providing non-stereotypical jobs that provide increased earnings, benefits, and career advancement potential for people, with significant disabilities. There is a substantial need for a sustained and coordinated initiative to build professional competency within One-Stop Centers and their partners, including service providers and employers, about the use of customized employment strategies.

Additionally there is a need to: (1) Effectively expand the availability of personal agents, job development expertise, and other strategies for achieving customized employment for people with disabilities; (2) increase the number of eligible training providers who can provide customized employment assistance; (3) provide information, technical assistance, training and strategic planning that focuses on integrating customized employment strategies into the workforce investment system; (4) develop ongoing linkages with employers and professional and business service organizations and trade associations and market to employers the abilities of people with disabilities to work in a variety of jobs; (5) coordinate all necessary employment and related supports from WIA partners and other essential programs that are not required partners under WIA; and, (6) research and demonstrate alternative methods of determining effective performance by the workforce investment system in terms of service to people with disabilities.

This SGA is designed to award strategic planning and implementation grants for customized employment to develop and/or expand the capacity of local workforce systems to provide meaningful and effective opportunity through One-Stops for all persons with disabilities addresses the first of these activities.

The U.S. Department of Labor also offers Work Incentive Grants designed to enhance service delivery throughout the National One-Stop delivery system for people with disabilities. Recognizing that the One-Stop system generally has limited capacity to serve people with disabilities in the comprehensive nature envisioned under the WIA, the Work Incentive Grant program has multiple goals which include but are not limited to: (1) Establishing the capacity for coordinated, seamless service delivery to this client group for the many programs and services which typically impact their entry or retention in the workforce; (2) Increasing the availability of assistive technology in One-Stop Centers; (3) Ensuring the availability of trained One-Stop staff to serve people with disabilities; (4) Assuring outreach and marketing of One-Stop services to the disability community; and (5) Establishing or expanding linkages with public and private providers of this client Work Incentive Grants were awarded in the last two fiscal years, as a continuing and on-going process of building the One-Stop infrastructure to most effectively meet the needs of customers with disabilities. The Work Incentive Grants are complementary yet distinct from the Customized Employment demonstration grants offered in this SGA. The Work Incentive Grants support systemic change through capacity building of the One-Stop infrastructure, whereas these Customized Employment Grants will serve as models of comprehensive service delivery which extends beyond WIA programs and services for individuals with disabilities who are the most disenfranchised under current service delivery systems.

This SGA is designed to develop comprehensive models of direct service delivery in the context of a One-Stop setting for individuals with disabilities with the greatest barriers to employment, many of whom have never been employed, are limited to subsidized employment, underemployed, or may be considered unable to be employed. The Customized Employment grants will involve cutting edge approaches such as use of customized employment strategies and active involvement of essential programs of both mandated and non-mandated partners of the workforce system.

III. Purpose

The purpose of this initiative is to maximize the capacity of, and outcomes from, One-Stop Centers and their partners to effectively serve people with disabilities through customized employment strategies, and to integrate those strategies into the policy and practice of the One-Stop and its partners in order to increase employment, choice and wages for people with disabilities.

For purposes of this solicitation the Department has chosen to specifically target the development and provision of customized employment to those people with disabilities identified in this section. However, the Department expects that once capacity for using customized employment strategies is developed or enhanced, the One-Stop Centers and their partners can expand use of these strategies to other groups of people with (and without) disabilities.

For purposes of this solicitation, the target groups are people with disabilities who are either unemployed or under-employed and are: (1) Receiving Supplementary Security Income (SSI) and/or Social Security Disability Insurance (SSDI); or (2) Participating in day programs (such as day habilitation, day activity or day health programs) or participating in facility-based or community employment and earning less than minimum wage; or (3) Participating in segregated employment and choosing to move to integrated, competitive employment; or (4) Awaiting employment services and supports following a move from a residential facility, or as part of a plan to move into a community under the Supreme Court decision in Olmstead v. L.C. by Zimring, 527 U.S. 581(1999); or (5) Transitioning from, or preparing to transition from, secondary school under a transition plan under part B of the Individuals with Disabilities Education Act, as amended (20 U.S.C. 1400 et seq.), and who, without access to customized employment strategies, would likely be referred to one of the environments identified in (2), (3) or (4) above, but who prefers integrated, competitive employment or self-employment.

For purposes of this solicitation, customized employment means individualizing the employment relationship between employees and employers in ways that meet the needs of both. It is based on an individualized determination of the strengths, needs, and interests of the person with a disability, and is also designed to meet the specific needs of the employer. It may include employment developed through job carving, self-employment or entrepreneurial initiatives, or other job development or restructuring strategies that result in job responsibilities being customized and individually negotiated to fit the needs of individuals with a disability. Customized employment assumes the provision of reasonable accommodations and supports necessary for the individual to perform the functions of a job that is individually negotiated and developed

IV. Statement of Work

Eligible applicants for these grants are Local Workforce Investment Boards (Local Boards) or, if appropriate, the WIA grant recipient or fiscal agent for the local area on behalf of the Local Board under the Workforce Investment Act. The Local Board may enter into numerous partnerships with other public and private entities, consistent with the proposed activities of the grant.

Grantees must implement training and staff development activities and demonstration projects designed to develop organizational capacity to serve people with disabilities in One-Stop Centers. These projects must develop professional competency in customized employment strategies and serve targeted people with disabilities. Workforce investment system partners and other non-required but essential programs must be included in this effort. Grantees must integrate customized employment strategies with the existing services available through the One-Stop Center and its partners, including through demonstrating alternative methods of measuring performance within the Once-Stop environment. The result of these efforts will be an increase in employment, choice, and wages for people with disabilities through the use of customized employment, and the systemic evaluation and modification, as appropriate, of policies and practices to ensure that customized employment strategies for people with disabilities are systemically included in the services available through the One-Stop Center.

Grantees must demonstrate collaborative activities across relevant stakeholder groups, including both required and non-required One-Stop partners, persons with disabilities, their parents and other family members, advocates, employers, community rehabilitation agencies, and others as appropriate².

² These partners may become a subgroup or an advisory group of the Local Board. They may be specifically charged with coordinating funding, resources and expertise in order to increase customized employment for people with disabilities in the community.

Grantees must:

1. Develop professional competency and capacity for implementing a variety of innovative and promising practices through customized employment;

2. Mobilize needed services and supports;

3. Implement systems change demonstrations; and,

4. Implement other initiatives to ensure that these innovations and promising practices become part of the menu of services available through the workforce investment system.

Grantees must develop employment opportunities in a variety of jobs, industries and at a variety of levels, including self-employment and entrepreneurship, based on the strengths, needs and desires of the individual with a disability. They must organize services and supports in ways that provide informed choice and promote self-determination. In addition, grantees must establish employer involvement; track and respond to customer service and satisfaction for both persons with disabilities and employers; and provide services, including follow-up services to ensure job retention and career development.

It is expected that each grantee will become a “model” for both the state and the Nation in terms of demonstrating effective linkages and strategies through the One-Stop Center system. These models will demonstrate successful strategies for customized employment for people with disabilities which result in increased employment and wages. Each grantee must also review policy and practice as it relates to people with disabilities, including researching alternative methods for performance accountability that are relevant to the characteristics of this population.

Grantees must pursue the following objectives:

1. Develop and implement strategic planning and implementation activities across the One-Stop required partner programs as identified in the Workforce Investment Act, (WIA sec. 121(b), 29 USCA, 2841(b) (such as Vocational Rehabilitation and others as appropriate) as well as other essential programs (such as Medicaid, Medicare, Mental Health, Transportation, Small Business Development Centers, State Councils on Developmental Disabilities, community colleges, benefits counseling and assistance programs, lending and financial institutions), whose expertise, services, and/or funds could contribute to employment services and supports needed by people with disabilities in order to secure customized employment.

2. Develop local and statewide policy initiatives to ensure that customized employment and multiple innovative strategies and promising practices become part of the menu of services available to people with disabilities including investigating alternative methods for performance accountability that consider the characteristics of the population.

3. Develop and document the increased capacity of the One-Stop system, including WIA required partners, community providers of employment services, and other essential programs, to provide customized employment for persons with disabilities. Such capacity includes enhancing collaboration between required WIA partners and building new collaborative initiatives with other essential programs.

4. Develop and document the capacity of the One-Stop system to increase the wages of people with disabilities who are currently working at less than minimum wage through the use of customized employment strategies.

5. Develop an increased understanding by One-Stop Centers' staff about health care, work incentives, benefits planning, “tickets” and other provisions under the Ticket-to-Work and Work Incentives Improvement Act of 1999 (42 USC 1320b-19 et seq.); and document increased use of these programs by the One-Stop Center and its partner programs to secure customized employment for recipients of SSI and/or SSDI who are entering the workforce or returning to work.

6. Document the increasing use of resources from a number of system partners and other essential programs, including providing individual budgets (e.g., individual training accounts/contractual services; tickets; vouchers; and other sources of individualized funding or personal funding accounts) for persons with disabilities to obtain customized employment.

7. Develop and leverage linkages with other state and local initiatives that provide services and supports for people with disabilities (including, but not limited to, state systems change efforts which promote systems improvement and comprehensive coordination; initiatives involving health care; benefits planning and assistance; housing; transportation; education; supported employment; small business development; technology-related assistance; initiatives of private foundations; and faith-based programs and others as appropriate).

8. Educate relevant stakeholders, including state and local policymakers and systems personnel, about needed changes in policy and practice in order to increase customized employment and wages for people with disabilities.

9. Organize education activities to enable customized employment and personalized supports to become available and used in local communities, including (as appropriate) activities necessary to secure adoption of the Medicaid buy-in in the state.

10. Develop ongoing linkages with employers, and their professional business and service organizations and trade associations as appropriate;

11. Collaborate with the national technical assistance cooperative agreement funded by the ODEP to provide assistance and training on increasing employment for adults with disabilities.

12. Identify and pursue other activities, as appropriate, to achieving the goals of these grants.

13. Provide ongoing evaluation of project activities.

Funds must be used in a flexible manner, as determined appropriate by input from stakeholders and identified needs. However, grantees must spend grant funds on activities that meet the requirements delineated in this SGA, including the requirements for outcome and evaluation data. Moreover, the grantee must adhere to the allowable cost and administrative requirements of Federal statutes, regulations, administrative requirements, and OMB Circulars. Activities may include the following:

1. Necessary staffing across agencies to implement grantee activities and otherwise demonstrate effective partnerships and interactions necessary to effectively leverage resources and expertise from partnering systems and programs.

2. Outreach to relevant stakeholders.

3. Strategic planning.

4. Demonstration activities which provide methods to increase the employment, choice, and earning potential of people with disabilities that are designed for systemic inclusion (including but not limited to demonstrating the use of individual training accounts or contractual services, tickets, and individual budgeting initiatives; economic stimulus activities including low-interest loans for person-centered micro-boards focused on increasing economic prosperity for specific individuals with disabilities; entrepreneurial employment initiatives that are consumer-owned or operated; demonstrations of innovation and cutting-edge strategies providing personal control, choice and customized assistance resulting in employment, including business ownership, micro-enterprise development or development of cooperatives for persons with disabilities; and other supports needed by specific individuals with disabilities to increase choice and wages in employment).

5. Other activities necessary to address needs and achieve goals identified through strategic planning and implementation, including collection of necessary data and evaluation.

6. Collaboration with the education system, parents and families to ensure transition of young people with disabilities from school to customized employment or training, and documentation of the outcomes of such efforts.

7. Training and education activities (including training regarding Medicaid buy-in provisions and other policy implications for increasing employment through state activities) designed to further the goal of increasing customized employment for persons with disabilities. These training activities include the education of One-Stop and partner personnel; state systems personnel and policymakers; developing and disseminating educational information and materials; and otherwise promoting policy and practice to increase the wide spread community-based use of customized employment strategies and personalized supports.

8. Researching and demonstrating alternative methods of measuring WIA performance outcomes that consider the various characteristics of people with disabilities and developing demonstrations of performance measures that document new methods for measuring program effectiveness; and coordinating the availability of and access to assistive technology.

9. Establishing connections to and collaborating with other entities, including employers, lending and financial institutions, foundations, faith-based organizations, institutions of higher education, consumer and family organizations, small business development centers and others, as appropriate, to further customized employment opportunities for persons with disabilities in local communities.

10. Educating the media and the general public about successful strategies for and the benefits of securing employment for people with disabilities. This will assist in obtaining long-term support for continuation of grantee activities following completion of funding.

11. Increasing the availability of personal agents and job development personnel offering customized services through customer-controlled approaches that result in customized employment (including demonstrating effectiveness of paying family members and/or other individuals with disabilities to serve as personal agents when selected by the individual with a disability to assist in negotiating and implementing employment plans and services).

12. Assisting community providers of segregated employment services to develop integrated, competitive options for individuals with disabilities, including implementation of conversion and other organizational change initiatives conducted with segregated provider programs that wish to change their services to integrated employment.

Upon the award of a grant, grantees must begin a strategic planning and implementation process that will address multiple components of needed change. Planning, implementation and ongoing evaluation for continuous improvement are expected to be implemented from year one in recognition that dynamic planning will occur and evolve over time. By the end of year five, it is expected that a more long-term strategic plan will be in place for expanding the availability and provision of customized employment, and for systemically revising policies and practices consistent with this goal. All grantees must provide a detailed management plan for project goals, objectives and activities.

All grantees must collect and provide to the DOL information on the individuals with disabilities served under this grant who secure employment through use of customized strategies (including information on types of jobs, wages and benefits secured by specific individuals with disabilities, and other areas addressed through the linkages and networks facilitated by grant activities.) Grantees must support the travel cost associated with sending at least one representative to the annual ODEP Grantees' training conference, to be held in Washington, DC.

All grantees must agree to cooperate with an evaluation to be conducted by the Department of Labor. DOL will arrange for and conduct this evaluation of the outcomes, impacts, and accomplishments of each funded grant as a way to measure the overall effectiveness of ODEP's grant program. Grantees must agree to make available records on all parts of grant activity, including participant employment and wage data, and to provide access to personnel, as specified by the evaluator(s), under the direction of the Department. This independent evaluation is separate from the ongoing evaluation for continuous improvement required of the grantee for grant implementation.

V. Funding Availability

The Department of Labor anticipates awarding up to seven grants with a range of between $400,000 and $750,000 each. These awards will be for a one-year period and may be renewed annually for up to four additional years for a total of five years depending upon the availability of funds and the efficacy of the grant activities, established through reviews conducted by the Department of Labor or its designee. Proposals must include budgetary information for a five-year period. The funding for Years Four and Five will be at successively lower levels, with funding during Year Four could be at up to 80 percent of third-year funds and during Year Five at 60 percent of the third years funds. Grantees are expected to use this grant as seed money to develop other public and private resources in order to ensure sustainability of grant activities following completion of the funding period.

Funds must not be used for modifying buildings or equipment for physical accessibility, although the strategic planning should address how resources will be leveraged for such purposes from other sources, as appropriate.

VI. Eligible Applicants

Eligible applicants for these grants are restricted to Local Workforce Investment Boards (Local Boards) or, if appropriate, the WIA grant recipient or fiscal agent for the local area on behalf of the Local Board as established under the Workforce Investment Act (WIA sec.117, U.S.C.A. 2832). The Local Board may coordinate numerous partnerships with other public and private entities, consistent with proposed activities of the grant and applicable administrative requirements.

The U.S. Department of Labor encourages Local Boards to join with other State/local entities and public/private non-profit organizations. Such entities and organizations could include state programs for Vocational Rehabilitation, Mental Health, Medicaid, Mental Retardation/Developmental Disabilities, Housing and/or Transportation; State Councils on Developmental Disabilities; Protection and Advocacy Programs; University Centers for Excellence in Developmental Disabilities; institutions of higher education; Centers for Independent Living (CIL's); disability advocacy and provider organizations; organizations of parents; federally-funded disability grant entities; Small Business Development Centers; cooperatives and micro-enterprises; lending and financial institutions; training programs; media and marketing agencies; employers; foundations; grass roots community, industry, and faith-based programs; and other organizations or programs which provide or support services and/or advocacy for people with disabilities. Letters of support and commitment from these programs must be included in the Appendix of the proposal. Indian and Native American Tribal entities, or consortia of Tribes, may apply for these grants. These grants could involve coordination of services and enhancement to a One-Stop system approach for people with disabilities in a specific Indian community or covering multiple Tribal entities which may cut across multiple States and/or workforce investment areas. Grants to Indian and Native American tribal grantees are treated differently because of sovereignty and self-governance established under the Indian Self-Determination and Education Assistance Act allowing for the government to government relationship between the Federal and Tribal Governments.

According to section 18 of the Lobbying Disclosure Act of 1995, an organization, as described in section 501(c)(4) of the Internal Revenue Code of 1986, that engages in lobbying activities will not be eligible for the receipt of federal funds constituting an award, grant, or loan. See 2 U.S.C. 1611; 26 U.S.C. 506(c)(4).

VII. Application Contents

There are three required Parts and an Appendix of the application. Requirements for each Part are provided in this application package, as are all required forms.

Part I—Project Financial Plan (Budget)

Part II—Executive Summary

Part III—Project Narrative

Appendices—Letters of Commitment/Support, Resumes, etc.

General Requirements

A cover letter, one completed blue ink signed original SF 424 grant application with two (2) copies. Proposals must be submitted by the applicant only. Page limits do not apply to the Project Financial Plan, the Executive Summary, or the Appendices (assurances, resumes, bibliography or references as appropriate, and letters of support.) A font size of at least twelve (12) point is required throughout.

Part I—Project Financial Plan (Budget)

To be considered, applications must include a detailed financial plan which identifies by line item the budget plan designed to achieve the goals of this grant. The Project Financial Plan must contain the SF-424, Application for Federal Assistance, (Appendix A) and an SF-424A Budget Information Sheet (Appendix B). The Project Financial Plan (Budget) must include on a separate page a detailed cost analysis of each line item. Justification for administrative costs must be provided. Approval of a budget by DOL is not the same as the approval of actual costs. The individual signing the SF-424 on behalf of the applicant must represent and be able to bind the responsible financial and administrative entity for a grant should that application result in an award.

Part II—Executive Summary

The application must contain an Executive Summary limited to no more than two (2) single-spaced, single-sided pages which are not included in the overall page limit. Each application must provide a grant synopsis which identifies the following:

1. The applicant;

2. The consortium partners; the organizations or systems they represent; and their role in grant implementation;

3. Data on people with disabilities in the area, including, to the extent it is available, information about the target group for this solicitation and other data relevant to the proposed grant;

4. The geographic service area of the Local Board;

5. The planned period of performance (projected annually through a five year cycle, assuming grant renewals awards);

6. The actions already taken by the One-Stop system in the local area to address the needs of people with disabilities, including activities related to increasing availability of customized employment and leveraging resources and expertise across non-required partners of the One-Stop Centers;

7. A brief statement of the goals of the proposal and how they will be achieved; and,

8. Assurances of commitment in support of this proposal from the fiscal agent and all partner agencies.

Part III—Project Narrative

The Grant Narrative should provide complete information on how the applicant will address the requirements of this SGA and is limited to no more than 75 double-spaced, single-sided, numbered pages (not including Appendices). Each application must provide, in response to the objectives of this SGA, a comprehensive strategy and implementation plan for developing capacity and providing customized employment through the One Stop system.

Appendix—Letters of Support and/or Commitment, Resumes

VIII. Evaluation Criteria/Selection

A. Evaluation Criteria: The Project Narrative should address the following evaluation elements:

1. Statement of Need (10 Points)

Applicants must include in their proposed plan the following items.

a. The current employment circumstances facing people with disabilities in the area to be served, including barriers, programs and resources, systems and activities that could be leveraged to address needed changes.

b. The number of persons with disabilities in the area who fit the other requirements of the defined target group of persons with disabilities who may be served under this grant.

c. Related issues that need to be addressed in order to develop and/or enhance capacity of the One-Stop system to use customized employment strategies to increase employment, choice and wages for persons with disabilities, including the contribution the proposed grant will make to influence systemic changes in the local workforce system.

2. Comprehensive Strategy for Strategic Planning and Implementation To Build Capacity for Customized Employment (25 points)

Applicants must include in their proposed plan the following items.

a. The technical plan to implement the purpose and objectives of this SGA to enhance the capacity of the workforce investment system to increase employment, choice and wages for persons with disabilities through the use of customized employment strategies and to ensure that such strategies are systemically included in the policy and practice of the One-Stop Center(s).

b. The plan for developing, implementing and expanding the availability and use of customized employment strategies throughout the WIA system of required partners and non-required programs.

c. The plan for how the expertise of the State Vocational Rehabilitation program will be used.

d. The plan to involve appropriate private entities, including but not limited to community-based organizations and faith-based organizations, as appropriate.

e. The plan for reaching people with disabilities and their families, including their involvement in grant design and implementation.

f. The plan for gaining support and assistance of area employers.

g. The plan for meeting the needs of individuals with disabilities from diverse cultures and/or ethnic groups.

h. The plan for expanding the use of customized employment strategies over time to:

1. All groups of persons with disabilities targeted under this solicitation; and

2. Other groups of individuals with disabilities (such as individuals who are receiving TANF benefits) following completion of the grant;

i. The plan for leveraging resources over time in order to ensure grant sustainability upon completion of funding, including the plan for implementing grant activities during years four and five at 80% and 60% funding, respectively.

j. The plan for responding to the measures by which program success will be evaluated.

k. The plan for marketing to and involving employers, and professional and business service organizations, and trade associations as appropriate.

3. Collaboration and Coordination (15 Points)

Applicants must include in their proposed plan the following items.

a. Demonstrations of support and commitment from key organizations and individuals who advocate through or on behalf of persons with disabilities to participate in this effort.

b. Demonstrations of support and commitment from One-Stop partners and non-required but essential programs.

c. Demonstrations of support from area employers and employer organizations and evidence of their interest in participating in this effort.

d. Demonstrations of support from persons with disabilities and their families for implementation of the proposed activities.

e. Commitment to cooperate with ODEP's planned technical assistance initiative in a joint effort to develop capacity and disseminate promising practices so that the national workforce system can profit from this experience.

4. Quality of Grant Personnel (15 Points)

Applicants must include in their proposed plan the following items.

a. The names and qualifications of staff and related technical experts and consultants to support the objectives of this project for grantee and key sub-contractors and consultants.

b. A resume of key staff and consultants must be included in the Appendix and must clearly indicate qualifications of each individual for designated role in project implementation.

5. Management Plan (10 Points)

Applicants must include in their proposed plan the following items.

a. A management plan adequate to achieve the objectives of the proposed grant on time and within budget, including clearly defined responsibilities, time lines, and milestones for accomplishing grant activities;

b. A plan demonstrating adequate procedures for ensuring feedback and continuous improvement in the operation of the proposed grant.

c. A plan demonstrating the time commitments of key grant personnel are appropriate and adequate to meet the objectives of the proposed grant.

d. How the applicant will insure that customized employment strategies become a part of the menu of services available in the local community.

6. Evaluation and Continuous Improvement (15 Points)

Applicants must include in their proposed plan the following items:

a. All grantees must agree to participate in the DOL evaluation outlined in Section IV of this SGA.

b. In addition, all grantees must implement ongoing evaluation of grant activities in order to determine the effectiveness of grant implementation efforts for continuous improvement of the grant. In determining the quality of the evaluation for continuous improvement, the Department considers the following.

1. The extent to which the methods of evaluation are thorough, feasible, and appropriate to the goals, objectives and outcomes of the proposed grant.

2. The extent to which the methods of evaluation and continuous improvement are appropriate to the context within which the grant operates.

3. The extent to which the methods of evaluation include the use of objective performance measures that are clearly related to the intended outcomes of the grant and will produce quantitative and qualitative data to the extent possible (including data on wages, wage changes, benefits, types of jobs, customer satisfaction, resources leveraged from partner programs, systemic changes implemented to sustain grant over time.)

4. And, the extent to which the evaluation will provide guidance about effective strategies suitable for replication in other settings.

7. Adequacy of Resources and Budget (10 Points)

Applicants must include in their proposed plan the following items.

a. The adequacy of support for grant implementation, including facilities, equipment, supplies, and other resources.

b. The extent to which the budget is adequate to support the proposed grant.

B. Selection Criteria: Acceptance of a proposal and an award of federal funds to sponsor any program(s) does not provide a waiver of any grant requirement and/or procedures. Grantees must comply with all applicable Federal statutes, regulations, administrative requirements and OMB Circulars. For example, the OMB circulars require, and an entity's procurement procedures must require that all procurement transactions must be conducted, as practical, to provide open and free competition. If a proposal identifies a specific entity to provide the services, the DOL/ODEP's award does not provide the justification or basis to sole-source the procurement, i.e., avoid competition.

Applications will be reviewed by a panel using the criteria described in this SGA. Applications will be ranked based on the score assigned by the panel after careful evaluation by each panel member. The ranking will be the primary basis to identify applicants as potential grantees. Although the Government reserves the right to award on the basis of the initial proposal submissions, the Government may establish a competitive range, based upon the proposal evaluation, for the purpose of selecting qualified applicants. The panel's conclusions are advisory in nature and not binding on the Grant Officer. The Government reserves the right to ask for clarification or hold discussions, but is not obligated to do so. The Government further reserves the right to select applicants out of rank order if such a selection would, in its opinion, result in the most effective and appropriate combination considering factors such as:

1. Findings of the grant technical evaluation panel;

2. Geographic distribution of the competitive applications; and,

3. The Project's Financial Plan.

The submission of the same proposal from any prior year competition does not guarantee an award under this solicitation.

IX. Reporting

The Department of Labor is responsible for ensuring the effective implementation of each competitive grant project in accordance with the provisions of this announcement, the grant agreement and other applicable administrative requirements. Applicants should assume that Department staff or their designees will conduct at least one on-site project review. In addition, all grantees will be expected to provide information on individuals with disabilities securing employment through use of customized strategies (including information on types of jobs, wages and benefits secured by specific individuals with disabilities, and other areas addressed through the linkages and networks facilitated by project activities). Grantees will be required to submit periodic financial and participation reports under the Customized Employment grant program. Specifically, the following reports will be required:

1. Quarterly progress reports, and upon completion of the grant period a final report. The quarterly report is estimated to take ten hours during the remainder of the grant. The final report is estimated to take 20 hours. The Department will work with the grantee to identify the requirements of the various reports, which will, among other things, include measures of ongoing analysis for continuous improvement and customer satisfaction;

2. Standard Form 269, Financial Status Report Form, on a quarterly basis;

3. Final Project Report, including an assessment of project performance and outcomes achieved. This report will be submitted in hard copy and on electronic disk using a format and instructions which will be provided by the Department. A draft of the final report is due to the Department 45 days before the termination of the grant.

DOL will arrange for and conduct an independent evaluation of the outcomes, impacts, and accomplishments of each funded project. Grantees must agree to make available records on all parts of project activity, including participant employment and wage data, and to provide access to personnel, as specified by the evaluator(s), under the direction of the Department. This independent evaluation is separate from the ongoing evaluation for continuous improvement required of the grantee for project implementation.

X. Administration Provisions

A. Administrative Standards and Provisions

Applicants are strongly encouraged to read these regulations before submitting a proposal. Grants awarded under this SGA shall be subject to the following as applicable:

29 CFR Part 95—Uniform Administrative Requirements for Grants and Cooperative Agreements with Institutions of Higher Education, etc.

29 CFR Part 96—Federal Standards for Audit of Federally Funded Grants, Contracts, and Agreements

29 CFR Part 97—Uniform Administrative Requirement for Grants and Cooperative Agreements to State and Local Governments

B. Allowable Cost

Determinations of allowable costs shall be made in accordance with the following applicable Federal cost principles:

State and Local Government—OMB Circular A-87

Nonprofit Organizations—OMB Circular A-122

Profit-making Commercial Firms—48 CFR Part 31.

Profit will not be considered an allowable cost in any case.

C. Grant Non-Discrimination Assurances

As a condition of the award, the applicant will comply fully with the nondiscrimination and equal opportunity provisions of the following laws:

29 CFR Part 31—Nondiscrimination in Federally-assisted programs of the Department of Labor, effectuation of Title VI of the Civil Rights Act of 1964. (Title VI of the Civil Rights Act of 1964)

29 CFR Part 32—Nondiscrimination on the Basis of Disability in Programs and Activities Receiving or Benefiting from Federal Assistance (Section 504 of the Rehabilitation Act)

29 CFR Part 36—Nondiscrimination on the Basis of Sex in Education Programs or Activities Receiving Federal Financial Assistance. (Title IX of the Education Amendments of 1972)

29 CFR Part 37—Implementation of the Nondiscrimination and Equal Opportunity Provisions of the Workforce Investment Act of 1998 (WIA)

The applicant must attach the aforementioned assurances and certifications.

D. Limitation on Administrative and Indirect Costs

1. Direct Costs for administration, plus any indirect charges claimed.

2. Indirect costs claimed by the applicant must be based on a federally approved rate. A copy of the negotiated, approved, and signed indirect cost negotiation agreement must be submitted with the application.

3. If the applicant does not presently have an approved indirect cost rate, a proposed rate with justification may be submitted. Successful applicants will be required to negotiate an acceptable and allowable rate with the appropriate DOL Regional Office of Cost Determination within 90 days of grant award.

4. Rates traceable and trackable through the State Workforce Agency's Cost Accounting System represent an acceptable means of allocating costs to DOL and, therefore, can be approved for use in grants to State Workforce Agencies.

Signed at Washington, DC this 18th day of June, 2002
Lawrence J. Kuss
Grant Officer,

APPENDIX A. Application for Federal Assistance, Form SF 424

APPENDIX B. Budget Information Sheet, Form SF 424A

APPENDIX C. Assurances and Certifications Signature Page

BILLING CODE 4510-CX-P

[FR Doc. 02-16098 Filed 6-25-02; 8:45 am]

BILLING CODE 4510-CX-C